DEPARTMENT OF COMMERCE

International Trade Administration

[C-570-037]

Certain Biaxial Integral Geogrid Products From the People's Republic of China: Final Results of the Expedited First Sunset Review of the Countervailing Duty Order

AGENCY: Enforcement and Compliance, International Trade Administration, Department of Commerce.

SUMMARY: The U.S. Department of Commerce (Commerce) finds that revocation of the countervailing duty (CVD) order on certain biaxial integral geogrid products (geogrids) from the People's Republic of China (China) would be likely to lead to continuation or recurrence of countervailing subsidies at the levels indicated in the “Final Results of Sunset Review” section of this notice.

DATES: Applicable May 24, 2022.

FOR FURTHER INFORMATION CONTACT: Jasun Moy, AD/CVD Operations, Office V, Enforcement and Compliance, International Trade Administration, U.S. Department of Commerce, 1401 Constitution Avenue NW, Washington, DC 20230; telephone: (202) 482-8194.

SUPPLEMENTARY INFORMATION:

Background

On March 3, 2017, Commerce published in the Federal Register the CVD order on geogrids from China.¹ On February 1, 2022, Commerce initiated the first sunset review of the Order, pursuant to section 751(c) of the Tariff Act of 1930, as amended (the Act).² On February 16, 2022, Commerce received a timely filed notice of intent to participate from Tensar Corporation (Tensar), a domestic interested party, within the deadline specified in 19 CFR 351.218(d)(1)(i).³ Tensar claimed interested party status under section 771(9)(C) of the Act as a producer of the domestic like product.

¹ See Certain Biaxial Integral Geogrid Products from the People's Republic of China: Countervailing Duty Order, 82 FR 12437 (March 3, 2017) (Order).

² See Initiation of Five-Year (Sunset) Reviews, 87 FR 5467 (February 1, 2022) (Initiation Notice).

³ See Tensar's Letter, “Notice of Intent to Participate in the First Five-Year Review of the Countervailing Duty Order on Certain Biaxial Integral Geogrid Products from the People's Republic of China,” dated February 16, 2022.

On March 3, 2022, Commerce received an adequate substantive response to the Initiation Notice from the domestic interested party within the 30-day deadline specified in 19 CFR 351.218(d)(3)(i).⁴ We received no substantive responses from any other interested parties, including the Government of China. On March 21, 2022, Commerce notified the U.S. International Trade Commission that it did not receive an adequate substantive response from respondent interested parties.⁵ As a result, pursuant to section 751(c)(3)(B) of the Act and 19 CFR 351.218(e)(1)(ii)(B)-(C), Commerce conducted an expedited (120-day) sunset review of the Order.

⁴ See Tensar's Letter, “First Five-Year (“Sunset”) Review,” dated March 3, 2022.

⁵ See Commerce's Letter, “Sunset Reviews Initiated on February 1, 2022,” dated March 21, 2022.

Scope of the Order

The products covered by the Order are geogrids from China. For a complete description of the scope of the Order, see Appendix I.

Analysis of Comments Received

All issues raised in this sunset review are addressed in the accompanying Issues and Decision Memorandum.⁶ The issues discussed in the Issues and Decision Memorandum are listed in Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁶ See Memorandum, “Issues and Decision Memorandum for the Final Results of the Expedited First Sunset Review of the Countervailing Duty Order on Certain Biaxial Integral Geogrid Products from the People's Republic of China,” dated concurrently with, and hereby adopted by, this notice (Issues and Decision Memorandum).

Final Results of Sunset Review

Pursuant to sections 751(c)(1) and 752(b) of the Act, Commerce determines that revocation of the Order would likely lead to continuation or recurrence of countervailable subsidies at the rates listed below.

Exporter/producer | Net countervailable subsidy rate (percent)
BOSTD Geosynthetics Qingdao Ltd. and Beijing Orient Science & Technology Development Co., Ltd | 15.61
Taian Modern Plastic Co., Ltd | 56.24
Chengdu Tian Road Engineering Materials Co., Ltd | 152.50
Chongqing Jiudi Reinforced Soil Engineering Co., Ltd | 152.50
CNBM International Corporation | 152.50
Dezhou Yaohua Geosynthetics Ltd | 152.50
Dezhou Zhengyu Geosynthetics Ltd | 152.50
Hongye Engineering Materials Co., Ltd | 152.50
Hubei Nete Geosynthetics Ltd | 152.50
Jiangsu Dingtai Engineering Material Co., Ltd | 152.50
Jiangsu Jiuding New Material Ltd | 152.50
Lewu New Material Ltd | 152.50
Nanjing Jinlu Geosynthetics Ltd | 152.50
Nanjing Kunchi Composite Material Ltd | 152.50
Nanyang Jieda Geosynthetics Co., Ltd | 152.50
Qingdao Hongda Plastics Corp | 152.50
Shandong Dexuda Geosynthetics Ltd | 152.50
Shandong Haoyang New Engineering Materials Co., Ltd | 152.50
Shandong Tongfa Glass Fiber Ltd | 152.50
Shandong Xinyu Geosynthetics Ltd | 152.50
Tai'an Haohua Plastics Co., Ltd | 152.50
Taian Hengbang Engineering Material Co., Ltd | 152.50
Taian Naite Geosynthetics Ltd | 152.50
Taian Road Engineering Materials Co., Ltd | 152.50
Tenax | 152.50
Hengshui Zhongtiejian Group Co | 152.50
Qingdao Sunrise Dageng Import and Export Co., Ltd | 152.50
All-Others | 35.93

Administrative Protective Order (APO)

This notice serves as the only reminder to interested parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and notice in accordance with sections 751(c), 752(b), and 777(i)(1) of the Act and 19 CFR 351.218.

Dated: May 18, 2022.
Lisa W. Wang,
Assistant Secretary for Enforcement and Compliance.

Appendix I

Scope of the Order

The products covered by the scope are certain biaxial integral geogrid products. Biaxial integral geogrid products are a polymer grid or mesh material (whether or not finished, slit, cut-to-length, attached to woven or non-woven fabric or sheet material, or packaged) in which four-sided openings in the form of squares, rectangles, rhomboids, diamonds, or other four-sided figures predominate. The products covered have integral strands that have been stretched to induce molecular orientation into the material (as evidenced by the strands being thinner in width toward the middle between the junctions than at the junctions themselves) constituting the sides of the openings and integral junctions where the strands intersect. The scope includes products in which four-sided figures predominate whether or not they also contain additional strands intersecting the four-sided figures and whether or not the inside corners of the four-sided figures are rounded off or not sharp angles. As used herein, the term “integral” refers to strands and junctions that are homogenous with each other. The products covered have a tensile strength of greater than 5 kilonewtons per meter (kN/m) according to American Society for Testing and Materials (ASTM) Standard Test Method D6637/D6637M in any direction and average overall flexural stiffness of more than 100,000 milligram-centimeter according to the ASTM D7748/D7748M Standard Test Method for Flexural Rigidity of Geogrids, Geotextiles and Related Products, or other equivalent test method standards.

Subject merchandise includes material matching the above description that has been finished, packaged, or otherwise further processed in a third country, including by trimming, slitting, coating, cutting, punching holes, stretching, attaching to woven or non-woven fabric or sheet material, or any other finishing, packaging, or other further processing that would not otherwise remove the merchandise from the scope of the Order if performed in the country of manufacture of the biaxial integral geogrid.

The products subject to the scope are currently classified in the Harmonized Tariff Schedule of the United States (HTSUS) under the following subheading: 3926.90.9995. Subject merchandise may also enter under subheadings 3920.20.0050 and 3925.90.0000. The HTSUS subheadings set forth above are provided for convenience and U.S. Customs purposes only. The written description of the scope is dispositive.

Appendix II

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rate Likely to Prevail

3. Nature of the Subsidies

VII. Final Results of Review

VIII. Recommendation

[FR Doc. 2022-11158 Filed 5-23-22; 8:45 am]

BILLING CODE 3510-DS-P